DEPARTMENT OF HOMELAND SECURITY

Coast Guard

[Docket Number USCG-2021-0738]

Final Programmatic Environmental Impact Statement/Overseas Environmental Impact Statement Offshore Patrol Cutter Acquisition Program

AGENCY: Coast Guard, DHS.

ACTION: Notice of Availability; request for comments.

SUMMARY: The U.S. Coast Guard announces the availability of the Final Programmatic Environmental Impact Statement (PEIS)/Overseas Environmental Impact Statement (POEIS) for the Offshore Patrol Cutter (OPC) Program's Stage 2 acquisition of up to 21 OPCs and operation of up to 25 total OPCs to replace the capabilities of the existing fleet of Medium Endurance Cutters (MEC) (Proposed Action). In accordance with National Environmental Policy Act (NEPA), the Council on Environmental Quality (CEQ) NEPA implementing regulations, and Executive Order 12114 “Environmental Effects Abroad of Major Federal Actions,” the Final PEIS/POEIS analyzes the potential environmental and socioeconomic impacts of the acquisition and identifies related mitigation measures associated with the acquisition and operation of up to 25 OPCs.

DATES: Comments and related material must be post-marked or received by the Coast Guard on or before July 14, 2022. No decision will be made until at least 30 days after publication of the Notice of Availability (NOA) in the Federal Register by the U.S. Environmental Protection Agency, at which time the Coast Guard may execute a Record of Decision (ROD).

ADDRESSES: The Final PEIS/POEIS is available in the docket which can be found by searching the docket number USCG-2021-0738 using the Federal Decision Making Portal at https://www.regulations.gov, or by downloading from the project website at https://www.dcms.uscg.mil/Our-Organization/Assistant-Commandant-for-Engineering-Logistics-CG-4-/Program-Offices/Environmental-Management/Environmental-Planning-and-Historic-Preservation/. Requests for additional information should be sent to U.S. Coast Guard Headquarters, ATTN: Andrew Haley, 2700 Martin Luther King Jr. Ave. SE, Washington, DC 20593.

We encourage you to submit comments and related material on the Final PEIS. We will consider all submissions and may adjust our final action based on your comments. If you submit a comment, please include the docket number for this notice, indicate the specific section of this document to which each comment applies, and provide a reason for each suggestion or recommendation.

Submitting Comments: You may submit comments on the Final PEIS/POEIS by one of the following methods:

• Via the Web: You may submit comments identified by docket number USCG-2021-0738 using the Federal eRulemaking Portal at https://www.regulations.gov.

• Via U.S. Mail: U.S. Coast Guard Headquarters, ATTN: Andrew Haley, 2700 Martin Luther King Jr. Ave. SE, Washington, DC 20593. Please note that mailed comments must be postmarked on or before the comment deadline of 30 days following publication of this notice to be considered.

Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: Please contact Andrew Haley, U.S. Coast Guard; email HQS-SMB-OPCEIS@uscg.mil.

SUPPLEMENTARY INFORMATION: The United States Coast Guard (Coast Guard), a military, multi-mission, maritime service within the Department of Homeland Security (DHS), is proposing to continue the acquisition of up to 25 Offshore Patrol Cutters (OPCs) each with a design service life of 30 years to replace 28 aging Medium Endurance Cutters (MECs; Famous and Reliance-Class) which would then be or have already been decommissioned. There is no redundant vessel capability within the Coast Guard or other government agencies.

The OPC program is a DHS Level 1 Major Acquisition Program that provides surface assets to bridge the Coast Guard's operational capability gap between the National Security Cutters (NSC) that patrol the open ocean and the Fast Response Cutters (FRC), which primarily operate within 50 nautical miles (nm; 93 kilometers (km)) from shore. The complete OPC Program of Record comprises 25 OPCs. OPC Stage 1 is already under contract to provide the first four OPCs. OPC Stage 2 is the focus of this PEIS/POEIS and would provide the remaining 21 OPCs. The purpose of the OPC program is to provide the Coast Guard with a reliable and operationally available presence to accomplish assigned missions in offshore waters. Typical OPC operations would occur between 12 nm from shore and inside 200 nm (370 km), but they could be deployed anywhere around the globe where national interests require. These missions may require an extended on-scene vessel presence, a long transit time to reach the operational area, or a forward deployment of forces in support of national defense. Without replacement of the MECs and the USCGC ALEX HALEY, the Coast Guard could face an increasing risk of failure to maintain the capability to execute its mission and provide timely services in offshore waters. The Proposed Action would enable the Coast Guard to continue to ensure the Nation's maritime safety, security, and stewardship.

Similar to the MEC's operations, the Proposed Action would include vessel and aircraft operations supporting a range of missions including maritime patrol, fisheries protection, port security, disaster response, and drug and migrant interdiction. Full operational capability would be achieved when all planned OPCs have been produced and are operational. Coast Guard OPC operations and training would occur after delivery of each OPC from the shipbuilder to the Coast Guard. For example, the completion of the first OPC is expected in 2023 and it is expected to become operational in 2024. Completed construction of one new OPC is scheduled annually through 2028. Beginning in 2029, completion of two new OPCs is scheduled annually until all 25 have been constructed. OPCs would be operationally ready one year after delivery to the Coast Guard from the shipbuilder. The projected construction completion date of all 25 OPCs is 2037.

The Proposed Action would include delivery, training, operations, and maintenance of up to 25 OPCs to replace the capabilities of the MECs. The Final PEIS/POEIS analyzes the potential environmental and socioeconomic impacts associated with the Proposed Action, including direct, indirect, and cumulative effects, and mitigation measure to minimize impacts.

The Coast Guard submitted a request for consultation under Section 7 of the Endangered Species Act (ESA) to the United States Fish and Wildlife Service (USFWS) and National Marine Fisheries Service (NMFS; the Services) for those endangered or threatened species under their respective jurisdictions. Determinations made in the PEIS/POEIS regarding endangered or threatened species, as well as critical habitat, should be considered preliminary, as the consultation process under Section 7 of the ESA is ongoing and has not been completed. On April 13, 2022, the Coast Guard submitted letters to NMFS and the USFWS under Section 7(d) of the ESA confirming that there would be no irretrievable commitment of resources that would preclude any reasonable and prudent alternatives as the Coast Guard works together with the Services towards completing consultation before the first OPC is delivered to the Government. The Coast Guard also requested consultation under the Magnuson-Stevens Fishery Conservation and Management Act on designated essential fish habitat (EFH) and anticipates completion before the first OPC is delivered. The determinations presented herein may be modified as a result of the ESA and EFH consultations.

The Coast Guard is not requesting authorization under Section 101(a)(5) of the Marine Mammal Protection Act (MMPA) at this time, because the Proposed Action discussed in this PEIS/POEIS would not deliver the first operational OPC until 2024. The PEIS/POEIS may contain information relevant and applicable to assist with future Coast Guard consultations that are in support of a request for future incidental take authorizations under the MMPA.

The Coast Guard identified three reasonable alternatives that would meet the purpose and need of the Proposed Action; these three Action Alternatives are analyzed in detail in the Final PEIS/POEIS.

1. Alternative 1 (Preferred Alternative): The Coast Guard would acquire and operate up to 25 OPCs to fulfill mission requirements in the Atlantic Ocean, Gulf of Mexico, and Pacific Ocean, including Alaska, and Hawaii and Pacific Islands. Completed construction of one new OPC is scheduled annually through 2028; therefore, construction of OPC-1-4 would be completed by Fiscal Year (FY) 2027. Beginning in 2029, two new OPCs would be constructed annually with a projected construction completion date for all 25 OPCs by 2037. OPCs would be operationally ready one year after delivery to the Coast Guard from the shipbuilder. This notional construction schedule would allow for MECs to be decommissioned and the Coast Guard to remain present with no delay in service to complete the Coast Guard's missions.

2. Alternative 2: The Coast Guard would explore the acquisition of fewer OPCs after the completion of OPC-1 through OPC-4 (which are still under contract). Five, ten, or fifteen OPCs would be considered via a re-competition of the original OPC contract as replacements for a corresponding number of in-service MECs. The Coast Guard would then replace the remaining MECs on a one-for-one basis, using whatever replacement hulls the Coast Guard could obtain when deterioration or obsolescence requires decommissioning. The life cycle training and logistical costs of maintaining several unique hulls would exceed the corresponding costs of maintaining a class of 25 cutters that would be built specifically to conduct missions in proposed action areas. Costs and challenges are similar to what is described under Alternative 3.

3. Alternative 3: The Coast Guard would explore various forms of cutter purchase or lease, or inherit vessels from the Navy, as the need arises. This would mean that as a MEC reaches or surpasses the end of its economic and operational service life, that cutter would not necessarily be replaced with the same type of asset or by an asset with similar capabilities.

The challenges involved with one-for-one MEC replacements are best demonstrated by the 1999 acquisition of the U.S. Navy's USS EDENTON, a salvage and rescue ship. The Coast Guard recommissioned the ship as the USCGC ALEX HALEY. The ship was designed in the early 1970s and, except for replacing her aged diesel engines, no significant environmental improvements were made. This is typical of a one-off ship acquisition because there is little justification for the extensive or expensive non-recurring design engineering costs for specifications that would make the vessel capable of conducting missions assigned to MECs. Maintenance records maintained by the Surface Forces Logistics Center confirm the maintenance costs per operating hour for USCGC ALEX HALEY ($2,345) are 62 percent higher than the equivalent costs for maintaining the average 270 ft (82 m) cutter ($1,445), as is typical for a one-of-a-kind ship. One-for-one MEC replacement would cost far more per replacement hull because it eliminates any workforce savings associated with a ship with capabilities designed specifically to conduct Coast Guard missions in offshore areas. The purchase, lease, or inherit alternative includes the lack of an existing domestic commercial vessel capable of meeting available options to Purchase and Build-to-Lease. One of the major challenges with this approach is that the Coast Guard would not have an integrated system of systems, thus assets would not be able to communicate in real time, they would operate at differing levels of efficiency (resulting in decreased efficiency throughout the system), and maintenance costs would be higher.

The Coast Guard also carried forward the No Action Alternative for detailed analysis in the Final PEIS/POEIS. While the No Action Alternative would not satisfy the purpose and need for the Proposed Action, this alternative was retained to provide a comparative against which to analyze the effects of the Action Alternatives as required under CEQ's NEPA regulation.

Resource areas analyzed in the Final PEIS include: air quality, ambient sound, biological resources and critical habitat, and socioeconomic resources.

Stressors analyzed in the Final PEIS include: acoustic stressors (fathometer and Doppler speed log noise, vessel noise, aircraft noise, and gunnery noise) and physical stressors (vessel movement, aircraft movement, and military expended materials).

Based on the analysis presented in the Final PEIS/POEIS, potentially adverse impacts could occur to biological resources (i.e., from disturbance); however, practical mitigation measures presented in the Final PEIS/POEIS are expected to reduce any of these potential adverse effects. As a result, impacts to all resource areas would be less-than-significant (i.e., negligible, minor, or moderate) adverse or beneficial, which may result in the Coast Guard making a finding of no significant impact in the ROD. However, these findings are not final until the Coast Guard executes a ROD.

A Notice of Availability and request for comments was published in the Federal Register Notice (86 FR 52162; September 20, 2021) to notify the public of the 45 day public review period of the Draft PEIS/POEIS. The Coast Guard received comments from the U.S. Environmental Protection Agency and two comments from the public. The Coast Guard considered and addressed in the Final PEIS/POEIS comments received on the Draft PEIS during the comment period. Public comments did not result in the addition of substantive revisions to the Draft PEIS. Responses to comments are in Appendix I of the Final PEIS/POEIS. An electronic copy of the Final PEIS/POEIS can be obtained using the Federal eRulemaking Portal at https://www.regulations.gov identified by docket number USCG-2021-0738, or by downloading from the project website at https://www.dcms.uscg.mil/Our-Organization/Assistant-Commandant-for-Engineering-Logistics-CG-4-/Program-Offices/Environmental-Management/Environmental-Planning-and-Historic-Preservation/.

After publication of this NOA of the Final PEIS/POEIS, the Coast Guard will prepare and publish its ROD announcing which Alternative is environmentally preferred and which Alternative it selects for implementation (be it an Action Alternative or the No Action Alternative). Publication of the Final ROD will occur no sooner than 30 days after the publication of the Final PEIS/POEIS. This notice is issued under authority of NEPA, specifically in compliance with 42 U.S.C. 4332(2)(C) and CEQ implementing regulations in 40 CFR parts 1500 through 1508 and Executive Order 12114 titled “Environmental Effects Abroad of Major Federal Actions.”

Dated: June 8, 2022.
Andrew T. Pecora,
Captain, U.S. Coast Guard, OPC Program Manager (CG-9322).

[FR Doc. 2022-12782 Filed 6-13-22; 8:45 am]

BILLING CODE 9110-04-P